DEPARTMENT OF HEALTH AND HUMAN SERVICES

Administration for Children and Families

45 CFR Parts 302, 303, and 307

RIN 0970-AC01

State Parent Locator Service; Safeguarding Child Support Information: Proposed Delay of Effective Date

AGENCY: Administration for Children and Families (ACF), Department of Heath and Human Services.

ACTION: Proposed delay of effective date.

SUMMARY: In accordance with the Memorandum of January 20, 2009, from the Assistant to the President and Chief of Staff entitled “Regulatory Review” [74 FR 4435], the Department published a document in the Federal Register on March 3, 2009 [74 FR 9171], seeking public comment on a contemplated delay of 60 days in the effective date of the rule entitled “State Parent Locator Service; Safeguarding Child Support Information,” published in the Federal Register on September 26, 2008 [73 FR 56422]. That rule addresses requirements for State Parent Locator Service responses to authorized location requests, State IV-D program safeguarding of confidential information, authorized disclosures of this information, and restrictions on the use of confidential data and information for child support purposes with exceptions for certain disclosures permitted by statute. In response to comments, the Department issued a document March 20, 2009 [74 FR 11880] delaying the effective date of the rule by 60 days until May 22, 2009, in order to permit officials of the new Administration an opportunity to review and approve the policies in the regulation.

The Department is currently reviewing questions of law and policy raised by the rule. However, based upon the review that has been conducted to date and the nature of the comments received in response to the March 3, 2009 document, it appears that further revisions to the final rule may be warranted in one or more areas. In response to these comments and in order to afford officials an opportunity to review and consider further the provisions of the September 26, 2008 final rule, the Department is considering delaying the effective date to December 30, 2010.

The Department solicits comments specifically on the contemplated delay in effective date.

DATES: Comments must be received on or before May 5, 2009.

ADDRESSES: You may submit comments by any of the following methods:

• Federal eRulemaking Portal: http://www.regulations.gov. Follow the instructions for submitting comments.

• Mail: Interested persons are invited to submit written comments via regular postal mail to: Office of Child Support Enforcement, Administration for Children and Families, 370 L'Enfant Promenade, SW., 4th floor, Washington, DC 20447, Attention: Division of Policy; Mail Stop: ACF/OCSE/DP.

FOR FURTHER INFORMATION CONTACT: Yvette Riddick, Office of Child Support Enforcement, Division of Policy, (202) 401-4885.

SUPPLEMENTARY INFORMATION:

I. Background

On September 26, 2008, a final rule following notice and comment period entitled “State Parent Locator Service; Safeguarding Child Support Information” [73 FR 56422], was published in the Federal Register to address requirements for State Parent Locator Service, State IV-D program safeguarding and authorized disclosure of confidential information, and restrictions on the use of confidential data and information for child support purposes with exceptions for certain disclosures permitted by statute. The effective date given for the final rule was March 23, 2009.

In accordance with the Memorandum of January 20, 2009, from the Assistant to the President and Chief of Staff entitled “Regulatory Review” [74 FR 4435], on March 3, 2009, we published a notice in the Federal Register [74 FR 9171] on a contemplated delay of 60 days in the effective date of the safeguarding. In response to comments, the Department issued a subsequent notice on March 20, 2009 [74 FR 11880] delaying the effective date of the September 26, 2008 final rule for 60 days until May 22, 2009, in order to permit officials of the new Administration an opportunity to review and approve the policies in the regulation.

We now believe additional time is needed for Department officials to complete their review of the rule and to assess fully the comments received in response to the March 3, 2009 notice. Although the Notice invited comments generally on whether a delay in effective date was needed “to allow Department officials the opportunity for further review and consideration,” it also generated focused comments recommending changes to several particular substantive areas of the final rule. In addition to supporting a delay in the effective date, the commenters raised a number of serious questions that warrant further consideration by the Administration.

For example, one commenter indicated that the final rule appeared to prohibit the State IV-D agency from disclosing confidential information, such as child support payment records to other State agencies, including the State food assistance (Food Stamps) program and the State revenue (Tax) program. Another commenter stated that a delay in the effective date would give the Administration an opportunity to conduct a review of the child welfare data exchange provisions of the rule to ensure that the provisions of the rule conform with The Fostering Connections to Success and Increasing Adoptions Act (Pub. L. 110-351), signed into law on October 7, 2008, after the rule was finalized.

Several commenters raised specific policy objections to the September 26, 2008 final rule including concerns about the rules for disclosure of confidential location information. Another commenter stated that the regulations need to be reviewed and revised to assure significantly greater protection of that information from use for non-child support purposes.

Additionally, a number of commenters focused on the disclosure of information to an “agent of a child” and raised concerns that some private collection agencies may not actually serve the child's best interests and raised concerns that these private entities are not subject to ethics and confidentiality rules such as those governing State agencies and attorneys and there may be unintended adverse consequences of such disclosures.

Department officials need time to complete their review of the policies contained in the September 26, 2008, final rule and to consider fully the concerns raised by commenters. Should Department officials determine that it is necessary and appropriate to make any changes to the provisions of the September 26, 2008, final rule, HHS will provide the public with notice of and an opportunity to comment on any proposed changes. Accordingly, we are considering delaying the effective date of the September 26, 2008, final rule until December 30, 2010.

II. Provisions of This Action

The contemplated delay in the effective date would give Department officials the opportunity for further review of the issues of law and policy raised by the rule. The Department is inviting comments on the contemplated extension of the effective date of the regulation to December 30, 2010.

(Catalog of Federal Domestic Assistance Program No. 93.563, Child Support Enforcement)

Dated: April 9, 2009.
Charles E. Johnson,
Acting Secretary.

[FR Doc. E9-8542 Filed 4-10-09; 11:15 am]

BILLING CODE